DEPARTMENT OF COMMERCE

National Oceanic and Atmospheric Administration

[RTID 0648-XB899]

Pacific Fishery Management Council; Public Meetings

AGENCY: National Marine Fisheries Service (NMFS), National Oceanic and Atmospheric Administration (NOAA), Commerce.

ACTION: Notice of public meetings.

SUMMARY: The Pacific Fishery Management Council (Pacific Council) and its advisory entities will hold online and in-person public meetings.

DATES: The Pacific Council and its advisory entities will meet April 7-13, 2022 in a hybrid format with the Pacific Council and its salmon advisory bodies meeting in-person with live streaming and remote participation options. All other ancillary meetings will be held by online meeting only. The Pacific Council meeting will begin on Friday, April 8, 2022, at 8 a.m. Pacific Daylight Time (PDT), reconvening at 8 a.m. on Saturday, April 9 through Wednesday, April 13, 2022. All meetings are open to the public, except for a Closed Session held from 8 a.m. to 9 a.m., Friday, April 8, to address litigation and personnel matters. The Pacific Council will meet as late as necessary each day to complete its scheduled business.

ADDRESSES:

Council address: Meetings of the Pacific Council and its salmon advisory entities will be held at the Doubletree by Hilton Seattle Airport, 18740 International Boulevard, Seattle, WA; telephone: (206) 246-8600. Other ancillary meetings will be held online. All meetings of the Pacific Council and its advisory entities will include online meeting access and remote participation options. Specific meeting information, including directions on joining the meeting, connecting to the live stream broadcast, and system requirements will be provided in the meeting announcement on the Pacific Council's website (see www.pcouncil.org). You may send an email to Mr. Kris Kleinschmidt (kris.kleinschmidt@noaa.gov) or contact him at (503) 820-2412 for technical assistance.

Council address: Pacific Fishery Management Council, 7700 NE Ambassador Place, Suite 101, Portland, OR 97220-1384.

FOR FURTHER INFORMATION CONTACT: Mr. Merrick Burden, Executive Director, Pacific Council; telephone: (503) 820-2418 or (866) 806-7204 toll-free, or access the Pacific Council website, www.pcouncil.org, for the proposed agenda and meeting briefing materials.

SUPPLEMENTARY INFORMATION: The April 7-13, 2022 meeting of the Pacific Council will be streamed live on the internet. The broadcasts begin initially at 9 a.m. PDT Friday, April 8, 2022, and through Wednesday, April 13, 2022. Broadcasts end when business for the day is complete. Only the audio portion and presentations displayed on the screen at the Pacific Council meeting will be broadcast. The audio portion for the public is listen-only except that an opportunity for oral public comment will be provided prior to Council Action on each agenda item. Additional information and instructions on joining or listening to the meeting can be found on the Pacific Council's website (see www.pcouncil.org).

The following items are on the Pacific Council agenda, but not necessarily in this order. Agenda items noted as “Final Action” refer to actions requiring the Council to transmit a proposed fishery management plan, proposed plan amendment, or proposed regulations to the U.S. Secretary of Commerce, under Sections 304 or 305 of the Magnuson-Stevens Fishery Conservation and Management Act. Additional detail on agenda items, Council action, and advisory entity meeting times, are described in Agenda Item A.4, Proposed Council Meeting Agenda, and will be in the advance April 2022 briefing materials and posted on the Pacific Council website at www.pcouncil.org no later than Friday, March 25, 2022.

A. Call to Order

1. Opening Remarks

2. Roll Call

3. Executive Director's Report

4. Approve Agenda

B. Open Comment Period

1. Comments on Non-Agenda Items

C. Habitat Issues

1. Current Habitat Issues

D. Salmon Management

1. National Marine Fisheries Service Report

2. Tentative Adoption of 2022 Management Measures for Analysis

3. Clarify Council Direction on 2022 Management Measures

4. Methodology Review Preliminary Topic Selection

5. Further Direction for 2022 Management Alternatives

6. 2022 Management Measures—Final Action

E. Coastal Pelagic Species Management

1. National Marine Fisheries Service Report

2. Exempted Fishing Permits (EFPs) for 2022-2023—Final Action

3. Pacific Sardine Assessment, Harvest Specifications, and Management Measures—Final Action

4. Fishery Management Plan Management Categories—Final Action

F. Groundfish Management

1. National Marine Fisheries Service Report

2. Trawl Cost Recovery Report

3. Biennial Harvest Specifications for 2023-2024 Fisheries—Final Action

4. Preliminary Preferred Management Measure Alternatives for 2023-2024 Fisheries

5. Implementation of the 2022 Pacific Whiting Fishery Under the U.S./Canada Agreement

6. Non-trawl Sector Area Management Measures

7. Electronic Monitoring Update

8. Inseason Adjustments—Final Action

G. Pacific Halibut Management

1. Incidental Catch Limits for the Salmon Troll Fishery—Final Action

H. Administrative Matters

1. Final West Coast Regional Framework for Determining the Best Scientific Information Available

2. Membership Appointments and Council Operating Procedures

3. Future Council Meeting Agenda and Workload Planning

I. Enforcement

1. Annual U.S. Coast Guard West Coast Fishery Enforcement Report

Advisory Body Agendas

Advisory body agendas will include discussions of relevant issues that are on the Pacific Council agenda for this meeting and may also include issues that may be relevant to future Council meetings. Proposed advisory body agendas for this meeting will be available on the Pacific Council website, www.pcouncil.org, no later than Friday, March 25, 2022.

Schedule of Ancillary Meetings

Day 1—Thursday, April 7, 2022

Coastal Pelagic Species Advisory Subpanel 8 a.m.

Coastal Pelagic Species Management Team 8 a.m.

Groundfish Management Team 8 a.m.

Habitat Committee 8 a.m.

Salmon Advisory Subpanel 8 a.m.

Salmon Technical Team 8 a.m.

Scientific and Statistical Committee 8 a.m.

Enforcement Consultants 9 a.m.

Model Evaluation Workgroup 10 a.m.

Day 2—Friday, April 8, 2022

California State Delegation 7 a.m.

Oregon State Delegation 7 a.m.

Washington State Delegation 7 a.m.

Coastal Pelagic Species Advisory Subpanel 8 a.m.

Coastal Pelagic Species Management Team 8 a.m.

Groundfish Advisory Subpanel 8 a.m.

Groundfish Management Team 8 a.m.

Habitat Committee 8 a.m.

Salmon Advisory Subpanel 8 a.m.

Salmon Technical Team 8 a.m.

Scientific and Statistical Committee 8 a.m.

Enforcement Consultants As Necessary

Day 3—Saturday, April 9, 2022

California State Delegation 7 a.m.

Oregon State Delegation 7 a.m.

Washington State Delegation 7 a.m.

Coastal Pelagic Species Advisory Subpanel 8 a.m.

Coastal Pelagic Species Management Team 8 a.m.

Groundfish Advisory Subpanel 8 a.m.

Groundfish Management Team 8 a.m.

Salmon Advisory Subpanel 8 a.m.

Salmon Technical Team 8 a.m.

Enforcement Consultants As Necessary

Day 4—Sunday, April 10, 2022

California State Delegation 7 a.m.

Oregon State Delegation 7 a.m.

Washington State Delegation 7 a.m.

Groundfish Advisory Subpanel 8 a.m.

Groundfish Management Team 8 a.m.

Salmon Advisory Subpanel 8 a.m.

Salmon Technical Team 8 a.m.

Enforcement Consultants As Necessary

Day 5—Monday, April 11, 2022

California State Delegation 7 a.m.

Oregon State Delegation 7 a.m.

Washington State Delegation 7 a.m.

Groundfish Advisory Subpanel 8 a.m.

Groundfish Management Team 8 a.m.

Salmon Advisory Subpanel 8 a.m.

Salmon Technical Team 8 a.m.

Enforcement Consultants As Necessary

Day 6—Tuesday, April 12, 2022

California State Delegation 7 a.m.

Oregon State Delegation 7 a.m.

Washington State Delegation 7 a.m.

Groundfish Advisory Subpanel 8 a.m.

Groundfish Management Team 8 a.m.

Salmon Advisory Subpanel 8 a.m.

Salmon Technical Team 8 a.m.

Enforcement Consultants As Necessary

Day 7—Wednesday, April 13, 2022

California State Delegation 7 a.m.

Oregon State Delegation 7 a.m.

Washington State Delegation 7 a.m.

Salmon Technical Team 8 a.m.

Although non-emergency issues not contained in the meeting agenda may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@noaa.gov; (503) 820-2412) at least 10 business days prior to the meeting date.

Authority: 16 U.S.C. 1801 et seq.

Dated: March 16, 2022.
Tracey L. Thompson,
Acting Deputy Director, Office of Sustainable Fisheries, National Marine Fisheries Service.

[FR Doc. 2022-05921 Filed 3-18-22; 8:45 am]

BILLING CODE 3510-22-P